SMALL BUSINESS ADMINISTRATION

[Declaration of Disaster #3364, Amdt #5]

State of New York

In accordance with information received from the Federal Emergency Management Agency, the above numbered declaration is hereby amended to extend the deadline for filing applications for physical damages as a result of this disaster to January 31, 2003.

The deadline for filing applications for economic injury has also been amended to January 31, 2003. All other information remains the same.

(Catalog of Federal Domestic Assistance Program Nos. 59002 and 59008)

Dated: July 23, 2002.
Herbert L. Mitchell,
Associate Administrator for Disaster Assistance.

[FR Doc. 02-19172 Filed 7-29-02; 8:45 am]

BILLING CODE 8025-01-P